DEPARTMENT OF THE TREASURY

Submission for OMB Review; Comment Request

November 19, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 29, 2004 to be assured of consideration.

Departmental Offices/Office of Foreign Assets Control

OMB Number: 1505-0177.

Form Numbers: None.

Type of Review: Extension.

Title: Procedures for Payments to Persons Who Hold Certain Categories of Judgments.

Description: Submissions will provide the U.S. Government with information to be used in determining the eligibility of an applicant under Sec. 2002 of Public Law 106-386 (The Victims of Trafficking and Violence Protection Act of 2000) and to complete processing of payments under Sec. 2002.

Respondents: Individuals or households.

Estimated Number of Respondents: 20.

Estimated Burden Hours Per Respondent: 12 hours.

Frequency of Response: On occasion.

Estimated Total Reporting Burden: 240 hours.

Clearance Officer: Lois K. Holland, Departmental Offices, Room 2110, 1425 New York Avenue, NW., Washington, DC 20220, (202) 622-1563.

OMB Reviewer: Joseph F. Lackey, Jr., Office of Management and Budget, Room 10235, New Executive Office Building, Washington, DC 20503, (202) 395-7316.

Lois K. Holland,
Treasury PRA Clearance Officer.

[FR Doc. 04-26267 Filed 11-26-04; 8:45 am]

BILLING CODE 4811-16-P